DEPARTMENT OF HEALTH AND HUMAN SERVICES

National Institutes of Health

Center for Scientific Review; Amended Notice of Meeting

Notice is hereby given of a change in the meeting of the Biomedical Computing and Health Informatics Study Section, October 10, 2019 8:00 a.m. to October 11, 2019 6:00 p.m. at the Doubletree Hotel Bethesda, 8120 Wisconsin Avenue, Bethesda MD 20814, which was published in the Federal Register on September 10, 2019, 84 FR 47528.

The contact person for this meeting has been changed to Karen Nieves Lugo, Ph.D. The meeting date, time and location remain the same. The meeting is closed to the public.

Dated: September 30, 2019.
Ronald J. Livingston, Jr.,
Program Analyst, Office of Federal Advisory Committee Policy.

[FR Doc. 2019-21602 Filed 10-3-19; 8:45 am]

BILLING CODE 4140-01-P